DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from January 18 to January 22, 2010.

For further information, please contact Edson Beall via: United States Postal Service mail, at the National Register of Historic Places, 2280, National Park Service, 1849 C St. NW., Washington, DC 20240; in person (by appointment), 1201 Eye St., NW., 8th floor, Washington DC 20005; by fax, 202-371-2229; by phone, 202-354-2255; or by e-mail, Edson_Beall@nps.gov.

Dated: April 1, 2010.
J. Paul Loether,
Chief, National Register of Historic Places/National Historic Landmarks Program.

KEY: State, County, Property Name, Address/Boundary, City, Vicinity, Reference Number, Action, Date, Multiple Name

ARKANSAS

Boone County

Twelve Oaks, 7210 AR 7 S, Harrison, 09001237, LISTED, 1/20/10

Carroll County

Sanitarium Lake Bridges Historic District, Carroll Co. Rd. 317, approx. .5 mi. S. of Greenwood Hollow Rd., Eureka Springs vicinity, 09001238, LISTED, 1/19/10 (Historic Bridges of Arkansas MPS)

Clark County

DeGray Creek Bridge, Co. Rd. 50 over DeGray Creek, Arkadelphia, 09001239, LISTED, 1/21/10 (Historic Bridges of Arkansas MPS)

Columbia County

Cross and Nelson Hall Historic District, Southern Arkansas University Campus at 100 E. University, Magnolia, 09001240, LISTED, 1/20/10 (New Deal Recovery Efforts in Arkansas MPS)

Crawford County

Lee Creek Bridge, W. of W. Rena Rd. over Lee Creek, Van Buren, 09001241, LISTED, 1/21/10 (Historic Bridges of Arkansas MPS)

Old U.S. 64—Van Buren Segment, Oak Ln. N. of US 64, Van Buren, 09001242, LISTED, 1/21/10 (Arkansas Highway History and Architecture MPS)

Crittenden County

Riverside Speedway, 151 Legion Rd., West Memphis, 09001243, LISTED, 1/21/10

Wilson Power and Light Company Ice Plant, 120 E. Broadway St., West Memphis, 09001244, LISTED, 1/21/10

Desha County

McGehee Post Office, 201 N. Second St., McGehee, 09001245, LISTED, 1/19/10

Garland County

Malco Theatre, 817 Central Ave., Hot Springs, 09001246, LISTED, 1/21/10

Hempstead County

Southwestern Proving Ground Building No. 5, 259 Hempstead Co. Rd. 279, Hope vicinity, 09001247, LISTED, 1/21/10 (World War II Home Front Efforts in Arkansas, MPS)

Independence County

Central Avenue Bridge, AR 69 over Polk Bayou, Batesville, 09001248, LISTED, 1/21/10 (Historic Bridges of Arkansas MPS)

Miller Creek Bridge, Co. Rd. 86 over Miller Creek, Batesville vicinity, 09001249, LISTED, 1/21/10 (Historic Bridges of Arkansas MPS)

Jefferson County

Taylor Field, 1201 E. 16th St., Pine Bluff, 09001250, LISTED, 1/21/10 (New Deal Recovery Efforts in Arkansas MPS)

Lawrence County

Commandant's House, 264 McClellan Dr., Walnut Ridge, 09001251, LISTED, 1/21/10 (World War II Home Front Efforts in Arkansas, MPS)

Logan County

Liberty Schoolhouse, 12682 Spring Lake Rd., Corley vicinity, 09001252, LISTED, 1/21/10

Marion County

Crooked Creek Bridge, US 62 Spur N. over Crooked Creek, Pyatt, 09001253, LISTED, 1/21/10 (Historic Bridges of Arkansas MPS)

Miller County

Beech Street Historic District, Roughly Beech St. between 14th and 23rd Sts., Texarkana, 09001254, LISTED, 1/20/10

Newton County

Jasper Commercial Historic District, Roughly bounded by Sycamore St., E. Elm St., N. Spring St., and Clark St., Jasper, 09001255, LISTED, 1/21/10

Ouachita County

Washington Street Historic District, 404-926 W. Washington, 619-816 Graham, 116-132 N. Cleveland, 131-139 N. Agee and 132 N. California, Camden, 09001256, LISTED, 1/22/10

Poinsett County

Poinsett Lumber and Manufacturing Company Manager's House, 512 Poinsett Ave., Trumann, 09001257, LISTED, 1/21/10

Pulaski County

Seed Warehouse No. 5, SW corner of US 165 and AR 161, Scott, 09001259, LISTED, 1/21/10 (Cotton and Rice Farm History and Architecture in the Arkansas Delta MPS)

Van Buren County

Middle Fork of the Little Red River Bridge, Co. Rd. 125 over the Middle Fork of the Little Red River, Shirley vicinity, 09001260, LISTED, 1/21/10

Washington County

Cane Hill Road Bridge, AR 170 over the Little Red River, Prairie Grove vicinity, 09001261, LISTED, 1/21/10 (Historic Bridges of Arkansas MPS)

Clinton House, 930 S. California Blvd., Fayetteville, 09000800, LISTED, 1/22/10

Goff Farm Stone Bridge, Goff Farm Rd. approx. ½ mi. E. of Dead Horse Mountain Rd., Fayetteville vicinity, 09001262, LISTED, 1/21/10 (Historic Bridges of Arkansas MPS)

Yell County

Petit Jean River Bridge, Co. Rd. 49 over the Petit Jean River, Ola vicinity, 09001263, LISTED, 1/21/10 (Historic Bridges of Arkansas MPS)

CALIFORNIA

Los Angeles County

Pegfair Estates Historic District, 1525-1645 Pegfair Estates Dr.; 1335-1345 Carnarvon Dr., Pasadena, 09001223, LISTED, 1/18/10 (Cultural Resources of the Recent Past, City of Pasadena)

DISTRICT OF COLUMBIA

District of Columbia State Equivalent

Fort View Apartments, 6000-6020 and 6030-6050 13th Place, N.W., Washington, 09001264, LISTED, 1/21/10 (Apartment Buildings in Washington, DC, MPS)

MISSOURI

Greene County

Springfield Public Square Historic District (Boundary Increase), E. side Public Square, part of the 300 block Park Central E., N. side of 200 block of W. Olive, Springfield, 09000281, LISTED, 1/13/10 (Springfield MPS)

NEW YORK

Columbia County

New Concord Historic District, Co. Rt. 9, New Concord, 09001268, LISTED, 1/19/10

Orange County

Balmville Cemetery, Albany Post Rd., Balmville vicinity, 09001229, LISTED, 1/19/10

Saratoga County

Victory Mills, 42 Gates Ave., Schuylerville vicinity, 09001271, LISTED, 1/19/10

NORTH DAKOTA

Grand Forks County

University of North Dakota Historic District, University of North Dakota, Grand Forks, 08001233, LISTED, 1/13/10

WISCONSIN

Brown County

South Broadway Historic District, 101-129 (odd only) S. Broadway, De Pere, 09001272, LISTED, 1/21/10

Milwaukee County

Milwaukee County Parkway System MPS, 64501057, COVER DOCUMENTATION ACCEPTED, 1/12/10

Walworth County

Whitewater Hotel, 226 W. Whitewater St., Whitewater, 09001273, LISTED, 1/21/10

[FR Doc. 2010-7834 Filed 4-6-10; 8:45 am]

BILLING CODE 4312-51-P